DEPARTMENT OF COMMERCE

National Oceanic and Atmospheric Administration

Science Advisory Board (SAB); Public Meeting of the NOAA Science Advisory Board

AGENCY: Office of Oceanic and Atmospheric Research (OAR), National Oceanic and Atmospheric Administration (NOAA), Department of Commerce (DOC)

ACTION: Notice of Open Meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Monday, 9 April, 2018 from 9:45 a.m. EDT to 5:00 p.m. EDT and on Tuesday, April 10, 2018 from 9:00 a.m. EDT to 11:40 p.m. EDT. These times and agenda topics described below are subject to change. Please refer to the web page www.sab.noaa.gov/SABMeetings.aspx for the most up-to-date meeting times and agenda.

Place: The meeting will be held at The Westin DC City Center, 1400 M Street NW, Washington, DC.

Status: The meeting will be open to public participation with a 15-minute public comment period on April 9 from 4:45-5:00 p.m. EDT (check website to confirm time). The SAB expects that public statements presented at its meetings will not be repetitive of previously submitted verbal or written statements. In general, each individual or group making a verbal presentation will be limited to a total time of three (3) minutes. Individuals or groups planning to make a verbal presentation should contact the SAB Executive Director by April 2, 2018 to schedule their presentation. Written comments should be received in the SAB Executive Director's Office by April 2, 2018, to provide sufficient time for SAB review. Written comments received by the SAB Executive Director after April 2nd, will be distributed to the SAB, but may not be reviewed prior to the meeting date. Seating at the meeting will be available on a first-come, first-served basis.

Special Accommodations: These meetings are physically accessible to people with disabilities. Requests for special accommodations may be directed no later than 12:00 p.m. on April 2, 2018, to Dr. Cynthia Decker, SAB Executive Director, SSMC3, Room 11230, 1315 East-West Highway, Silver Spring, MC 20910; Email: Cynthia.Decker@noaa.gov.

Matters To Be Considered: The meeting will include the following topics: (1) SAB Biennial Work Plan: Discussion to Date and Discussion of Next Steps on SAB Biennial Work Plan; (2) Discussion of SAB Report on Arctic Research Review; (3) Discussion of SAB Report on Emerging Technologies for NOAA Ocean Research, Operations and Management in the Ecosystem Context; (4)Presentation of National Academy of Sciences Report: “Thriving on Our Changing Planet—A Decadal Strategy of Earth Observations from Space”; (5) Presentation of Report from the Environmental Information Services Working Group (EISWG); (6) Updates to the Terms of Reference (TOR) for Climate, Data Archive and Access and Environmental Information Systems Working Groups; and (7) Updates from the Acting NOAA Administrator and Acting Chief Scientist.

FOR FURTHER INFORMATION CONTACT: Dr. Cynthia Decker, Executive Director, Science Advisory Board, NOAA, Room 11230, 1315 East-West Highway, Silver Spring, MD 20910. Email: Cynthia.Decker@noaa.gov; or visit the NOAA SAB website at http://www.sab.noaa.gov.

Dated: February 27, 2018.
David Holst,
Chief Financial Officer/Administrative Officer, Office of Oceanic and Atmospheric Research, National Oceanic and Atmospheric Administration.

[FR Doc. 2018-05175 Filed 3-13-18; 8:45 am]

BILLING CODE 3510-KD-P